DEPARTMENT OF COMMERCE

National Oceanic and Atmospheric Administration

[Docket No. 000522149-1059-02]

RIN 0648-ZA87

Dean John A. Knauss Marine Policy Fellowship, National Sea Grant College Program

AGENCY: Office of Oceanic and Atmospheric Research, National Oceanic and Atmospheric Administration, Commerce.

ACTION: Notice.

SUMMARY: This notice announces that applications may be submitted for a Fellowship program which was initiated by the National Sea Grant Office (NSGO), NOAA, in fulfilling its broad educational responsibilities, to provide educational experience in the policies and processes of the Legislative and Executive Branches of the Federal Government to graduate students in marine and aquatic-related fields. The Fellowship program accepts applications once a year on or before May 1 for a one-year fellowship beginning February 1 of the following year. All applicants must submit an application to the local Sea Grant program in their state. Applicants from states not served by a Sea Grant program should obtain further information by contacting the Knauss Fellows Program Manager at the NSGO.

DATES: Deadlines vary from program to program, but are generally due early to mid-April. Contact your state's Sea Grant program for specific deadlines (see list below).

ADDRESSES: Applications should be addressed to your local Sea Grant program. Contact the appropriate state's Sea Grant program from the list below to obtain the mailing address or the address may be obtained on the web site http://www.nsgo.seagrant.org/SGDirectors.html.

FOR FURTHER INFORMATION CONTACT: Ms. Nikola Garber, Knauss Fellows Program Manager, National Sea Grant College Program, R/SG, NOAA, 1315 East-West Highway, Silver Spring, MD 20910, Tel. (301) 713-2431, ext. 124; e-mail: nikola.garber@noaa.gov. Also call your nearest Sea Grant program or visit the web site http://www.nsgo.seagrant.org/Knauss.html.

Sea Grant Programs

ALABAMA, Mississippi-Alabama Sea Grant Consortium (228) 875-9368

ALASKA, University of Alaska (907) 474-7086

CALIFORNIA, University of California, San Diego (858) 534-4440

CALIFORNIA, University of Southern California (213) 821-1335

CONNECTICUT, University of Connecticut (860) 405-9128

DELAWARE, University of Delaware (302) 831-2841

FLORIDA, University of Florida (352) 392-5870

GEORGIA, University of Georgia (706) 542-5954

HAWAII, University of Hawaii (808) 956-7031

ILLINOIS, Purdue University (765) 494-3593

INDIANA, Purdue University (765) 494-3593

LOUISIANA, Louisiana Sea Grant (225) 388-6710

MAINE, University of Maine (207) 581-1435

MARYLAND, University of Maryland (301) 405-6371

MASSACHUSETTS, Massachusetts Institute of Technology (617) 253-7131

MASSACHUSETTS, Woods Hole Oceanographic Institution (508) 289-2557

MICHIGAN, University of Michigan (734) 763-1437

MINNESOTA, University of Minnesota (218) 726-8710

MISSISSIPPI, Mississippi-Alabama Sea Grant Consortium (228) 875-9368

NEW HAMPSHIRE, University of New Hampshire (603) 862-0122

NEW JERSEY, New Jersey Marine Science Consortium (732) 872-1300 Ext. 21

NEW YORK, New York Sea Grant Institute, SUNY (631) 632-6905

NORTH CAROLINA, North Carolina State University (919) 515-2454

OHIO, Ohio State University, (614) 292-8949

OREGON, Oregon State University (541) 737-2714

PUERTO RICO, University of Puerto Rico (787) 832-3585

RHODE ISLAND, University of Rhode Island (401) 874-6800

SOUTH CAROLINA, South Carolina Sea Grant Consortium (843) 727-2078

TEXAS, Texas A&M University (979) 845-3854

VIRGINIA, Virginia Graduate Marine Science Consortium (804) 924-5965

WASHINGTON, University of Washington (206) 543-6600

WISCONSIN, University of Wisconsin-Madison (608) 262-0905

SUPPLEMENTARY INFORMATION:

Dean John A. Knauss Marine Policy Fellowship, National Sea Grant College Program

Purpose of the Fellowship Program

In 1979, the National Sea Grant Office (NSGO), NOAA, in fulfilling its broad educational responsibilities, initiated a program to provide a unique educational experience in the policies and processes of the Legislative and Executive Branches of the Federal Government to graduate students who have an interest in ocean, coastal and Great Lakes resources and in the national policy decisions affecting these resources. In 1987, Public Law 100-220 made the Sea Grant Federal Fellows Program a formal part of the National Sea Grant College Program Act. The recipients are designated Dean John A. Knauss Marine Policy Fellows pursuant to 33 U.S.C. 1127(b).

Announcement

Fellows program announcements are sent annually to all participating Sea Grant institutions and campuses by the local Sea Grant program upon receipt of notice from the NSGO.

Eligibility

Any student who, on May 1, 2001, is in a graduate or professional program in a marine or aquatic-related field at a United States accredited institution of higher education may apply to the NSGO through their local Sea Grant program. Applicants from states not served by a Sea Grant program should contact the Knauss Fellows Program Manager at the NSGO; subsequently, the applicant will be a referred to the appropriate Sea Grant Program. NOAA makes financial assistance funds available to the Sea Grant programs nationwide to implement the fellowship program. The National Sea Grant program is listed in the Catalog of Federal Domestic Assistance under number 11.417: Sea Grant Support.

How to Apply

Interested students should discuss this fellowship with their local Sea Grant Program Director. Applicants from states not served by a Sea Grant program should contact the Knauss Fellows program Manager at the NSGO; subsequently, the applicant will be a referred to the appropriate Sea Grant Program. Applications must be submitted with signature to the local Sea Grant program by the deadline set in the announcement (usually early to mid-April). Each Sea Grant program may select and forward to the NSGO no more than five (5) applicants based on criteria used by the NSGO in the national competition.

Selected applications are to be received in the NSGO from the sponsoring Sea Grant program, no later than 5:00 pm EST on May 1, 2001. The competitive selection process and subsequent notification to the Sea Grant programs will be completed by June 14, 2001.

Stipend and Expenses

The local Sea Grant program receives and administers the overall grant of $38,000 per student on behalf of each Fellow selected from their program. Of this grant, the local Sea Grant program provides $32,000 to each Fellow for stipend and living expenses (per diem). The additional $6,000 will be used to cover mandatory health insurance for the Fellow and moving expenses. In addition, any remaining funds shall be used during the Fellowship year, first to satisfy academic degree-related travel, and second for Fellowship-related travel.

Indirect costs are not allowable for the Fellowships, and Programs are not allowed to charge for any costs associated with the Fellowships, including placement week [15 CFR 917.11(e), National Sea Grant Program Funding Regulations]. No matching funds are required. During the fellowship (February 1, 2002—January 31, 2003), the host may provide supplemental funds for work-related travel by the fellow.

Application

An application must include:

(1) Personal and academic curriculum vitae (not to exceed two pages using 12 pt. font).

(2) A personal education and career goal statement emphasizing the applicant's abilities and the applicant's expectations from the experience in the way of career development (1000 words or less). Placement preference in the Legislative or Executive Branches of the Government may be stated; this preference will be honored to the extent possible.

(3) Two letters of recommendation, including one from the student's major professor; if no major professor exists, the faculty person academically knowing the applicant best may be substituted.

(4) A letter of endorsement from the sponsoring Sea Grant Program Director.

(5) Official copy of all undergraduate and graduate student transcripts.

All applicants be evaluated solely on their application package according to the criteria listed above. Therefore, letters of endorsements from members of Congress, friends, relatives or others will not be accepted. Absolutely no prior contacts/arrangements are to be made with possible Host Offices.

Selection Criteria

The selection criteria will include:

(1) Quality of the applicant's personal education and career goal statement.

(2) Endorsement/content of the applicant's Sea Grant program director, the applicant's major professor and second letter of recommendation.

(3) Strength of academic performance and diversity of educational background including extracurricular activities, awards and honors (from the curriculum vitae and transcripts).

(4) Experience in marine or aquatic-related fields, oral and written communications skills, and interpersonal abilities. Relative weights of the evaluation criteria are equal.

Selection

Applicants will be individually reviewed and ranked, according to the criteria outlined above, by a panel appointed by the Director of the NSGO with input from the Sea Grant Association and the National Sea Grant Review Panel. The panel will include representation from the Sea Grant Association and the current, and possibly past, class of Fellows. Once the entire class is selected, based on the criteria listed, the Knauss Program Manager will group the top-ranked applicants in each category, legislative and executive, based upon the applicant's stated preference and/or judgement of the panel based upon material submitted. Academic discipline and geographic representation may be considered by the National Sea Grant Office to provide overall balance. The number of fellows assigned to the Congress will be limited to 10.

Federal Policies and Procedures

Fellows receive funds directly from their sponsoring Sea Grant program and are considered to be subrecipients of Federal assistance subject to all Federal laws and Federal and Commerce Department policies, regulations, and procedures applicable to Federal financial assistance awards.

Past Performance

Unsatisfactory performance under prior Federal awards may result in an application not being considered for funding.

Pre-Award Activities

If applicants incur any costs prior to an award being made, they do so solely at their own risk of not being reimbursed by the Government. Notwithstanding any verbal or written assurance that may have been received, there is no obligation on the part of Department of Commerce to cover pre-award costs.

No Obligation for Future Funding

If an application is selected for funding, the Department of Commerce has no obligation to provide any additional future funding in connection with that award. Renewal of an award to increase funding or extend the period of performance is at the total discretion of Department of Commerce.

Delinquent Federal Debts

Federal funds will not be awarded to a Fellows applicant who has an outstanding delinquent Federal debt or find until either:

i. The delinquent account is paid in full,

ii. A negotiated repayment schedule is established and at least one payment is received, or

iii. Other arrangements satisfactory to Department of Commerce are made.

Name Check Review

All non-profit and for-profit applicants are subject to a name check review process. Name checks are intended to reveal if any key individuals associated with the applicant have been convicted of or are presently facing criminal charges such as fraud, theft, perjury, or other matters which significantly reflect on the applicant's management honesty or financial integrity.

Primary Application Certifications

All primary applicants must submit a completed Form CD-511, “Certifications Regarding Debarment, Suspension and Other Responsibility Matters; Drug-Free Workplace Requirements and Lobbying,” and the following explanations are hereby provided:

i. Nonprocurement Debarment and Suspension

Prospective participants (as defined at 15 CFR Part 26, Section 105) are subject to 15 CFR Part 26, “Nonprocurement Debarment and Suspension” and the related section of the certification form prescribed above applies;

ii. Drug-Free Workplace

Grantees (as defined at 15 CFR part 26, section 605) are subject to 15 CFR part 26, Subpart F, “Government wide Requirements for Drug-Free Workplace (Grants)” and the related section of the certification form prescribed above applies;

iii. Anti-Lobbying

Persons (as defined at 15 CFR part 28, section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000; and

iv. Anti-Lobbying Disclosures

Any applicant that has paid or will pay for lobbying using any funds must submit an SF-LLL, “Disclosure of Lobbying Activities,” as required under 15 CFT part 28, Appendix B.

Tower Tier Certifications

Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to Department of Commerce. SF-LLL submitted by any tier recipient or subrecipients should be submitted to Department of Commerce in accordance with the instructions contained in the award document.

False Statements

A false statement on an application is grounds for denial or termination of funds and grounds for possible punishment by a fine or imprisonment as provided in 18 U.S.C. 1001.

Intergovernmental Review

Applications under this program are subject to Executive Order 12372, “Intergovernmental Review of Federal Programs.”

Minority Serving Institutions Statement

DOC/NOAA is strongly committed to broadening the participation of Historically Black Colleges and Universities (HBUC), Hispanic Serving Institutions (HSI), and Tribal Colleges and Universities (TCU) in its educational and research programs. The DOC/NOAA vision, mission, and goals are to achieve full participation by Minority Serving Institutions (MSI) in order to advance the development of human potential, to strengthen the Nation's capacity to provide high-quality education, and to increase opportunities for MSIs to participate in and benefit from Federal Financial Assistance programs. DOC/NOAA encourages all applicants to include meaningful participation of MSIs. Institutions eligible to be considered HBCU/MSIs are listed at the following Internet website: http://www.ed.gov/offices/OCR/99minin.html.

Classification

Prior notice and an opportunity for public comments are not required by the Administrative Procedure Act or any other law for this notice concerning grants, benefits, and contracts. Therefore, a regulatory flexibility analysis is not required for purposes of the Regulatory Flexibility Act.

This action has been determined to be not significant for purposes of E.O. 12866.

This document contains a collection-of-information requirement subject to the Paperwork Reduction Act and which has been approved by OMB under Control Number 0648-0362. Public reporting burden for this collection of information is estimated to average 2 hours per response, including the time for reviewing instructions, searching existing data sources, gathering and maintaining the data needed, and completing and reviewing the collection of information. Send comments regarding this burden estimate or any other aspect of this collection of information, including suggestions for reducing this burden, to Ms. Nikola Garber (see FOR FURTHER INFORMATION CONTACT above).

Notwithstanding any other provision of the law, no person is required to respond to, nor shall any person be subject to a penalty for failure to comply with, a collection of information subject to the requirements of the Paperwork Reduction Act, unless that collection of information displays a currently valid OMB Control Number.

Dated: March 13, 2001.
Louisa Koch,
Deputy Assistant Administrator, Office of Oceanic and Atmospheric Research.

[FR Doc. 01-6609 Filed 3-15-01; 8:45 am]

BILLING CODE 3510-KA-M